DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: International Dolphin Conservation Program.

Form Number(s): None.

OMB Approval Number: 0648-0387.

Type of Request: Regular submission.

Burden Hours: 146.

Number of Respondents: 62.

Average Hours per Response: Vessel permit application: 30 minutes; operator permit application: 10 minutes; waiver request: 30 minutes; vessel departure notification: 10 minutes; change in permit operator notification: 10 minutes; modified net notification: 10 minutes; experimental fishing permit application: 10 hours; dolphin mortality limit request: 15 minutes; arrival notification: 10 minutes; tuna tracking form submission: 1 hour; monthly tuna storage removal report: 10 minutes; monthly tuna receiving report: 1 hour; produce report: 30 minutes.

Needs and Uses: The National Oceanic and Atmospheric Administration (NOAA) collects information to implement the International Dolphin Conservation Program Act (Act). The Act allows entry of yellowfin tuna into the United States, under specific conditions, from nations in the Program that would otherwise be under embargo. The Act also allows U.S. fishing vessels to participate in the yellowfin tuna fishery in the eastern tropical Pacific Ocean on terms equivalent with the vessels of other nations. NOAA collects information to allow tracking and verification of “dolphin safe” and “non-dolphin safe” tuna products from catch through the U.S. market.

Affected Public: Business or other for-profit organizations; individuals or households.

Frequency: Annually, monthly and on occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: January 10, 2006.
Gwellnar Banks,
Management Analyst, Office of the Chief Information Officer.

[FR Doc. E6-346 Filed 1-13-06; 8:45 am]

BILLING CODE 3510-22-P